LIBRARY OF CONGRESS

Copyright Office

[Docket No. 2014-1]

Reengineering of Recordation of Documents

AGENCY: U.S. Copyright Office, Library of Congress.

ACTION: Notice of public meetings.

SUMMARY: The United States Copyright Office will be holding three public meetings in connection with its project of reengineering the recordation of documents pertaining to copyrights. A Notice of Inquiry in connection with this project was published in the Federal Register on January 15, 2014, see Strategic Plan for Recordation of Documents, 79 FR 2696 (January 15, 2014), and is available at http://www.copyright.gov/docs/recordation. Comments on that Notice of Inquiry are due by March 15, 2014. The public meetings will be held following the end of that comment period, on March 25, 2014 in Los Angeles, California; on March 26, 2014 in Santa Clara County, California; and on March 28, 2014 in New York, New York.

DATES: The meetings will be open to the public, but seating to participate at the principal discussion table will be limited. Requests to participate can be submitted via the Copyright Office Web site at http://www.copyright.gov/docs/recordation or sent by email to USCOrecordation@loc.gov by Friday, February 28, 2014, with contents as requested below. Persons who are unable to submit a request to participate by email should contact Joanna Corwin at 202-707-7827. Confirmations of participation will be sent via email by March 5, 2014. A tentative general agenda covering all meetings is presented below; a detailed agenda for each meeting will be posted by March 18, 2014 at http://www.copyright.gov/docs/recordation, and will also be sent via email to all confirmed participants.

ADDRESSES: The public meeting in Los Angeles will be held in Room 1314 (the Bruce Spector Conference Room) of the UCLA School of Law, 405 Hilgard Avenue, Los Angeles, California 90095, on Tuesday, March 25, 2014, from 9 a.m. to 3 p.m. PST.

The public meeting in Santa Clara County will be held in the Manning Faculty Lounge of the Stanford Law School, 559 Nathan Abbott Way, Stanford, California 94305, on Wednesday, March 26, 2014, from 9 a.m. to 3 p.m. PST.

The public meeting in New York will be held in the Jerome Greene Annex of Columbia Law School, 410 West 117th Street, New York, New York 11027 on Friday, March 28, 2014, from 9 a.m. to 3 p.m. EST.

FOR FURTHER INFORMATION CONTACT: Robert Brauneis, Abraham L. Kaminstein Scholar in Residence, by email at USCOrecordation@loc.gov or telephone at 202-707-9536.

SUPPLEMENTARY INFORMATION: On January 15, 2014, the Copyright Office published a Notice of Inquiry on five topics relating to the reengineering of the recordation of documents pertaining to copyright. See Strategic Plan for Recordation of Documents, 79 FR 2696 (January 15, 2014), available at http://www.copyright.gov/docs/recordation. Discussion at the public meetings will focus on these five topics. They include: (1) A guided remitter responsibility model of electronic recordation; (2) the use of structured electronic documents that contain their own indexing information; (3) the linking of recordation records to registration records; (4) the use of standard identifiers, and other metadata standards, in recorded documents and the catalog of such documents; and (5) potential additional incentives to record documents pertaining to copyrights. For further background information on these topics, please see the Notice of Inquiry.

Tentative General Agenda: By March 18, 2014, a detailed agenda for each public meeting will be posted at http://www.copyright.gov/docs/recordation, and will also be sent via email to all confirmed participants. The tentative general agenda for each meeting is as follows: 9:00 a.m.- 9:30 a.m. Introduction and Initial Presentations; 9:30 a.m.-11:15 a.m. Electronic Recordation Models (with coffee break); 11:15 a.m.-11:45 a.m. Linking Recordation and Registration Records; 11:45 a.m.-12:45 a.m. Lunch; 12:45 p.m.-1:45 p.m. Standard Identifiers and Metadata Standards; 1:45 p.m.-3 p.m. Additional Incentives to Record Documents.

Requests to Participate. Each request to participate in a public meeting should include the name of the requestor; the date and location of the public meeting that the requestor would like to attend; a statement of whether the requestor would like to limit his or her participation to particular portions of the meeting agenda; the requestor's organizational affiliation and title; and complete contact information, including postal address, email address, and telephone number. If the requestor, or the organization that the requestor is representing, has submitted comments in response to the Notice of Inquiry, the request should identify those comments. Requestors who have not submitted comments should include a brief summary of their views on the topics they wish to discuss.

Dated: January 29, 2014.
Maria A. Pallante,
Register of Copyrights.

[FR Doc. 2014-02211 Filed 2-3-14; 8:45 am]

BILLING CODE 1410-30-P